DEPARTMENT OF TRANSPORTATION

Surface Transportation Board

[STB Ex Parte No. 656 (Sub-No. 1)]

Investigation into the Practices of the National Classification Committee

AGENCY: Surface Transportation Board, DOT.

ACTION: Extension of deadline for filing comments.

SUMMARY: The Board is extending, by 14 days, the deadline for filing the comments requested in its decision served on October 13, 2005, and published in the Federal Register on October 19, 2005, at 70 FR 60881-82.

DATES: The deadline for filing opening comments in this proceeding is extended to December 2, 2005. The deadline for filing a reply by the National Classification Committee is extended to December 22, 2005.

ADDRESSES: Any filing submitted in this proceeding must refer to STB Ex Parte No. 656 (Sub-No. 1) and must be submitted either via the Board's e-filing format or in the traditional paper format. Any person using e-filing should comply with the instructions found on the Board's http://www.stb.dot.gov Web site, at the “E-FILING” link. Any person submitting a filing in the traditional paper format should send an original and 10 paper copies of the filing (and also an IBM-compatible floppy disk with any textual submission in any version of either Microsoft Word or WordPerfect) to: Surface Transportation Board, 1925 K Street, NW., Washington, DC 20423-0001. Because all comments will be posted to the Board's Web site, persons filing them with the Board need not serve them on other participants but must furnish a hard copy on request to any participant.

FOR FURTHER INFORMATION CONTACT: Joseph H. Dettmar (202) 565-1609. (Federal Information Relay Service for the hearing impaired: 1-800-877-8339.)

SUPPLEMENTARY INFORMATION: Additional information appears in the Board's decision granting this deadline extension and in the Board's prior decision served on October 13, 2005, and posted on the Board's Web site at http://www.stb.dot.gov, both under docket number STB Ex Parte No. 656 (Sub-No. 1). Board filings, decisions, and notices are available at this site.

This action will not significantly affect either the quality of the human environment or the conservation of energy resources.

Decided: November 4, 2005.
By the Board, Vernon A. Williams, Secretary.
Vernon A. Williams,
Secretary.

[FR Doc. 05-22449 Filed 11-9-05; 8:45 am]

BILLING CODE 4915-01-P